DEPARTMENT OF COMMERCE

Foreign-Trade Zones Board

[S-153-2024]

Foreign-Trade Zone 80; Application for Subzone; Senior Operations LLC; New Braunfels, Texas

An application has been submitted to the Foreign-Trade Zones (FTZ) Board by the City of San Antonio, grantee of FTZ 80, requesting subzone status for the facility of Senior Operations LLC, located in New Braunfels, Texas. The application was submitted pursuant to the provisions of the Foreign-Trade Zones Act, as amended (19 U.S.C. 81a-81u), and the regulations of the FTZ Board (15 CFR part 400). It was formally docketed on August 22, 2024.

The proposed subzone (12 acres) is located at 2400 Longhorn Industrial Drive, New Braunfels, Texas. A notification of proposed production activity has been submitted and is being processed under 15 CFR 400.37 (Doc. B-37-2024). The proposed subzone would be subject to the existing activation limit of FTZ 80.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is October 7, 2024. Rebuttal comments in response to material submitted during the foregoing period may be submitted during the subsequent 15-day period to October 21, 2024.

A copy of the application will be available for public inspection in the “Online FTZ Information Section” section of the FTZ Board's website, which is accessible via www.trade.gov/ftz.

For further information, contact Camille Evans at Camille.Evans@trade.gov.

Dated: August 22, 2024.
Elizabeth Whiteman,
Executive Secretary.

[FR Doc. 2024-19193 Filed 8-26-24; 8:45 am]

BILLING CODE 3510-DS-P